DEPARTMENT OF THE INTERIOR

Minerals Management Service

[Docket No. MMS-2010-OMM-0012]

MMS Information Collection Activity: 1010-0086, Sulphur Operations, Extension of a Collection; Comment Request

AGENCY: Minerals Management Service (MMS), Interior.

ACTION: Notice of extension of an information collection (1010-0086).

SUMMARY: To comply with the Paperwork Reduction Act of 1995 (PRA), MMS is inviting comments on a collection of information that we will submit to the Office of Management and Budget (OMB) for review and approval. The information collection request (ICR) concerns the paperwork requirements in the regulations under 30 CFR 250, Subpart P, “Sulphur Operations.”

DATES: Submit written comments by June 1, 2010.

FOR FURTHER INFORMATION CONTACT: Cheryl Blundon, Regulations and Standards Branch at (703) 787-1607. You may also contact Cheryl Blundon to obtain a copy, at no cost, of the regulation that requires the subject collection of information.

ADDRESSES: You may submit comments by either of the following methods listed below.

• Electronically: Go to http://www.regulations.gov. In the entry titled “Enter Keyword or ID,” enter docket ID MMS-2010-OMM-0012, then click search. Follow the instructions to submit public comments and view supporting and related materials available for this collection. The MMS will post all comments.

• Mail or hand-carry comments to the Department of the Interior; Minerals Management Service; Attention: Cheryl Blundon; 381 Elden Street, MS-4024; Herndon, Virginia 20170-4817. Please reference ICR 1010-0086 in your comment and include your name and return address.

SUPPLEMENTARY INFORMATION: Title: 30 CFR 250, Subpart P, Sulphur Operations.

OMB Control Number: 1010-0086.

Abstract: The Outer Continental Shelf (OCS) Lands Act, as amended (43 U.S.C. 1331 et seq., and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 5(a) of the OCS Lands Act requires the Secretary to prescribe rules and regulations “to provide for the prevention of waste, and conservation of the natural resources of the Outer Continental Shelf, and the protection of correlative rights therein” and to include provisions “for the prompt and efficient exploration and development of a lease area.” These authorities and responsibilities are among those delegated to the Minerals Management Service (MMS) to ensure that operations in the OCS will meet statutory requirements; provide for safety and protection of the environment; and result in diligent exploration, development, and production of OCS leases. This information collection request addresses the regulations at 30 CFR 250, Subpart P, Sulphur Operations, and the associated supplementary Notices to Lessees and Operators (NTLs) intended to provide clarification, description, or explanation of these regulations.

Regulations at 30 CFR 250, Subpart P, implement these statutory requirements. The MMS uses the information collected to ascertain the condition of drilling sites for the purpose of preventing hazards inherent in drilling and production operations and to evaluate the adequacy of equipment and/or procedures to be used during the conduct of drilling, well-completion, well-workover, and production operations. The MMS uses the information to:

• Ascertain that a discovered sulphur deposit can be classified as capable of production in paying quantities.

• Ensure accurate and complete measurement of production to determine the amount of sulphur royalty payments due the United States; and that the sale locations are secure, production has been measured accurately, and appropriate follow-up actions are initiated.

• Review expected oceanographic and meteorological conditions to ensure the integrity of the drilling unit (this information is submitted only if it is not otherwise available).

• Review hazard survey data to ensure that the lessee will not encounter geological conditions that present a hazard to operations.

• Ensure the adequacy and safety of firefighting plans; the drilling unit is fit for the intended purpose; and the adequacy of casing for anticipated conditions.

• Review log entries of crew meetings to verify that crew members are properly trained.

• Review drilling, well-completion, well-workover diagrams and procedures, as well as production operation procedures to ensure the safety of the proposed drilling, well-completion, well-workover and proposed production operations.

• Monitor environmental data during operations in offshore areas where such data are not already available to provide a valuable source of information to evaluate the performance of drilling rigs under various weather and ocean conditions. This information is necessary to make reasonable determinations regarding safety of operations and environmental protection.

We will protect information from respondents considered proprietary under the Freedom of Information Act (5 U.S.C. 552) and its implementing regulations (43 CFR part 2) and under regulations at 30 CFR 250.197, “Data and information to be made available to the public.” No items of a sensitive nature are collected. Responses are mandatory.

Frequency: Varies by section, but information concerning drilling, well-completion, and well-workover operations and production is collected only once for each particular activity.

Estimated Number and Description of Respondents: Approximately 1 Federal OCS sulphur lessee.

Estimated Reporting and Recordkeeping “Hour” Burden: The currently approved annual reporting burden for this collection is 903 hours. The following chart details the individual components and respective hour burden estimates of this ICR. In calculating the burdens, we assumed that respondents perform certain requirements in the normal course of their activities. We consider these to be usual and customary and took that into account in estimating the burden.

Citation 30 CFR 250 | Reporting and recordkeeping requirement | Hour burden
Submittals/Notifications
1600; 1617 | Submit exploration or development and production plan | Burden covered under (1010-0151).
1617; 1618; 1619(b); 1622 | Submit forms MMS-123 (Application for Permit to Drill), MMS-124 (Application for Permit to Modify), Form MMS-125 (End of Operations Report) | Burden covered under (1010-0141).
1605(b)(3) | Submit and/or resubmit data and information on fitness of drilling unit | 4
1605(d) | Submit results of additional surveys and soil borings upon request.* | 1
1605(f) | Submit application for installation of fixed drilling platforms or structures | Burden covered under (1010-0149).
1608 | Submit well casing and cementing plan or modification | 5
1619(c), (d), (e) | Submit copies of records, logs, reports, charts, etc., upon request | 1
1628(b), (d) | Submit application for design and installation features of sulphur production facilities and fuel gas safety system; certify new installation conforms to approved design | 4
1630(a)(6) | Notify MMS of pre-production test and inspection of safety system and commencement of production | 30 minutes.
1633(b) | Submit application for method of production measurement | 2
Requests
1603(a) | Request determination whether sulphur deposit can produce in paying quantities | 1
1605(e)(5) | Request copy of directional survey (by holder of adjoining lease).* | 1
1607 | Request establishment, amendment, or cancellation of field rules for drilling, well-completion, or well-workover | 8
1610(d)(7+8) | Request exception to ram-type blowout preventer (BOP) system components rated working pressure | 1
1611(b); 1625(b) | Request exception to water-rated working pressure to test ram-type and annular BOPs and choke manifold | 1
1611(f); 1625(f) | Request exception to recording pressure conditions during BOP tests on pressure charts.* | 1
1612 | Request exception to §§ 250.408/250.462 requirements for well-control drills.* | 1
1615 | Request exception to blind-shear ram or pipe rams and inside BOP to secure wells | 1
1629(b)(3) | Request approval of firefighting systems; post firefighting system diagram | 4
1600 thru 1634 | General departure and/or alternative compliance requests not specifically covered elsewhere in subpart P | 2
Record/Retain
1604(f) | Check traveling-block safety device for proper operation weekly and after each drill-line slipping; enter results in log | 15 minutes.
1605(c) | Report oceanographic, meteorological, and drilling unit performance data upon request.* | 1
1609(a) | Pressure test casing; record time, conditions of testing, and test results in log | 2
1611(d)(3); 1625(d)(3) | Record in driller's report the date, time, and reason for postponing pressure testing | 10 minutes.
1611(f), (g); 1625(f), (g) | Conduct tests, actuations, inspections, maintenance, and crew drills of BOP systems at least weekly; record results in driller's report; retain records for 2 years following completion of drilling activity | 6
1613(d) | Pressure test diverter sealing element/valves weekly; actuate diverter sealing element/valves/control system every 24 hours; test diverter line for flow every 24 hours; record test times and results in driller's report | 2
1616(c) | Retain training records for lessee and drilling contractor personnel | Burden covered under (1010-0128).
1619(a); 1623(c) | Retain records for each well and all well operations for 2 years; calculate well-control fluid volume and post near operators' station | 12
1621 | Conduct safety meetings prior to well-completion or well-workover operations; record date and time | 1
1628(b), (d) | Maintain information on approved design and installation features for the life of the facility | 1
1629(b)(1)(ii) | Retain pressure-recording charts used to determine operating pressure ranges for 2 years | 12
1630(b) | Maintain records for each safety device installed for 2 years; make available for review | 1
1631 | Conduct safety device training prior to production operations and periodically thereafter; record date and time | 1
1634(b) | Report evidence of mishandling of produced sulphur or tampering or falsifying any measurement of production | 1
Total Burden
* We included a minimal burden, but it has not been necessary to request these data and/or no submissions received for many years.

Estimated Reporting and Recordkeeping “Non-Hour Cost” Burden: We have identified no “non-hour cost” burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour paperwork cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: March 24, 2010.

Sharon Buffington,
Acting Chief, Office of Offshore Regulatory Programs.

[FR Doc. 2010-6989 Filed 3-29-10; 8:45 am]

BILLING CODE 4310-MR-P